DEPARTMENT OF AGRICULTURE

Food Safety and Inspection Service

[Docket No. FSIS-2008-0042]

Codex Alimentarius Commission: Meeting of the Codex Committee on Food Additives

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services, are sponsoring a public meeting on February 10, 2009. The objective of the public meeting is to provide information and receive public comments on agenda items and draft United States positions that will be discussed at the 41st Session of the Codex Committee on Food Additives (CCFA) of the Codex Alimentarius Commission (Codex), which will be held in Shanghai, China, on March 16-20, 2009. The Under Secretary for Food Safety and FDA recognize the importance of providing interested parties the opportunity to obtain background information on the 41st Session of the CCFA and to address items on the agenda.

DATES: The public meeting is scheduled for Tuesday, February 10, 2009, from 1 p.m. to 4 p.m.

ADDRESSES: The public meeting will be held in the auditorium (Room 1A003), Harvey W. Wiley Federal Building, FDA, Center for Food Safety and Applied Nutrition (CFSAN), 5100 Paint Branch Highway, College Park MD 20740. Documents related to the 41st Session of the CCFA are accessible via the World Wide Web at the following address: http://www. codexalimentarius.net/current.asp.

The U.S. Delegate to the CCFA, Dr. Dennis Keefe, invites interested U.S. parties to submit their comments electronically to the following e-mail address: ccfa@fda.hhs.gov. Registration:

Attendees may register electronically to the same e-mail address above by February 6, 2009. Early registration is encouraged because it will expedite entry into the building and its parking area. If you require parking, please include the vehicle make and tag number when you register. Because the meeting will be held in a Federal building, you should also bring photo identification and plan for adequate time to pass through security screening systems.

For Further Information About the 41st Session of the CCFA Contact: Dennis Keefe, Office of Food Additive Safety (HFS-205), CFSAN, FDA, 5100 Paint Branch Parkway, College Park, MD 20740. Phone: (301) 436-1284, Fax: (301) 436-2972, e-mail: dennis.keefe@fda.hhs.gov.

For Further Information About the Public Meeting Contact: Doreen Chen-Moulec, International Issues Analyst, U.S. Codex Office, Food Safety and Inspection Service (FSIS), Room 4865, South Building, 1400 Independence Ave SW., Washington, DC 20250. Phone: (202) 250-7760, Fax: (202) 720-3157, e-mail: doreen.chen-moulec@fsis. usda.gov.

SUPPLEMENTARY INFORMATION:

Background

The Codex Alimentarius (Codex) was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCFA was established to set or endorse maximum levels for individual food additives; prepare priority lists of food additives for risk assessment by the Joint FAO and WHO Expert Committee on Food Additives (JECFA); assign functional classes to individual food additives; recommend specifications of identity and purity for food additives for adoption by the Commission; consider methods of analysis for the determination of additives in food; and consider and elaborate standards or codes for related subjects such as the labeling of food additives when sold as such. The Committee is hosted by the People's Republic of China.

Issues To Be Discussed at the Public Meeting

The following items on the agenda for the 41st Session of the CCFA will be discussed during the public meeting:

• Matters Referred to the Committee from the Codex Alimentarius Commission and other Codex Bodies;

• Matters of Interest Arising from the FAO, WHO, and JECFA;

• Endorsement or Revision of Maximum Levels for Food Additives and Processing Aids in Codex Standards;

• Consideration of the Codex General Standard for Food Additives (GSFA);

• Discussion Paper on the Scope of Certain Food Categories of the GSFA;

• Discussion Paper on the Identification of Problems and Recommendations Related to Inconsistent Presentation of Food Additive Provisions in Codex Commodity Standards;

• Discussion Paper on Inconsistencies in the Names of Compounds in the Codex Specifications for Identity and Purity of Food Additives and in the International Numbering System for Food Additives;

• Proposed Draft Guidelines and Principles for Substances Used as Processing Aids;

• International Numbering System (INS) for Food Additives;

• Specifications for the Identity and Purity of Food Additives; and

• Priority List of Food Additives Proposed for Evaluation by the JECFA

Each item listed above will be fully described in documents distributed, or to be distributed, by the Codex Secretariat prior to the March 16-20, 2009, meeting in Shanghai, China. Members of the public may access copies of these documents from http://www.codexalimentarius.net/current.asp.

Public Meeting

At the February 10, 2009, public meeting, draft U.S. positions on the agenda items will be described and discussed, and attendees will have the opportunity to pose questions and offer comments. Written comments may be offered at the meeting or sent to the U.S. Delegate for the CCFA, Dr. Dennis Keefe at dennis.keefe@fda.hhs.gov. Written comments should state that they relate to activities of the 41st Session of the CCFA.

Additional Public Notification

Public awareness of all segments of rulemaking and policy development is important. Consequently, in an effort to ensure that minorities, women, and persons with disabilities are aware of this notice, FSIS will announce it online through the FSIS Web page located at http://www.fsis.usda.gov/regulations/2009_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on: January 22, 2009.
Paulo Almeida,
U.S. Associate Manager for Codex Alimentarius.

[FR Doc. E9-1726 Filed 1-26-09; 8:45 am]

BILLING CODE 3410-DM-P